DEPARTMENT OF HEALTH AND HUMAN SERVICES

Administration for Community Living

Agency Information Collection Activities: Proposed Collection; Public Comment Request; Prevention and Public Health Fund Evidence-Based Falls Prevention Program Information Collection; OMB Control Number 0985-0039

AGENCY: Administration for Community Living, Department of Health and Human Services.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This notice of proposed extension solicits comments on the information collection requirements related to the ACL's Prevention and Public Health Fund Evidence-Based Falls Prevention Program Information Collection.

DATES: Comments on the collection of information must be submitted electronically by 11:59 p.m. (EST) or postmarked by February 12, 2024.

ADDRESSES: Submit electronic comments on the collection of information to: Donna Bethge (Donna.Bethge@acl.hhs.gov). Submit written comments on the collection of information to Administration for Community Living, 330 C Street SW, Washington, DC, 20201, Attention: Donna Bethge.

FOR FURTHER INFORMATION CONTACT: Donna Bethge, Administration for Community Living, Donna.Bethge@acl.hhs.gov, (202) 795-7659.

SUPPLEMENTARY INFORMATION: Under the PRA, Federal agencies must obtain approval from the Office of Management and Budget (OMB) for each collection of information they conduct or sponsor. “Collection of information” is defined as and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected;

(4) ways to minimize the burden of the collection of information on respondents; and

The Evidence-Based Falls Prevention Grant Program is financed through the Prevention and Public Health Fund (PPHF). The statutory authority for cooperative agreements under the most recent program announcement (FY2023) is contained in the Older Americans Act, title IV; and the Patient Protection and Affordable Care Act, 42 U.S.C. 300u-11 (Prevention and Public Health Fund). The Falls Prevention Grant Program awards competitive grants to implement and promote the sustainability of evidence-based Falls Prevention programs that have been proven to provide older adults and adults with disabilities with education and tools to help them reduce falls and/or their risk of falls and fall-related injuries and supports a National Falls Prevention Resource Center that provides technical assistance, education, and resources for the national Falls Prevention network of partners.

OMB approval of the existing set of Falls Prevention data collection tools (OMB Control Number, 0985-0039) expires on 04/30/2024. This data collection continues to be necessary for the monitoring of program operations and outcomes.

ACL currently uses and proposes to continue to use the following tools to collect information for each program:

(1) a Program Information Cover Sheet and an Attendance Log, completed by the program leaders, to record the location of agencies that sponsor programs and will allow mapping of the delivery infrastructure; and

(2) a Participant Information Form and a Participant Post Program Survey to be completed by participants.

ACL intends to continue using an online data entry system for the program and participant survey data.

During the 60-day public comment period, ACL intends to analyze public comments received, conduct focus groups that include a sub-set of current Falls Prevention grantees, as well as consult with subject-matter experts to gather feedback and determine if changes to the data collection tools are warranted.

ACL will adhere to best practices for collection of all demographic information when this information is collected for the programs listed in accordance with OMB guidance.

This includes, but is not limited to, guidance specific to the collection of sexual orientation and gender identity (SOGI) items that align with Executive Order 13985 on Advancing Racial Equity and Support for Underserved Communities Through the Federal Government, Executive Order 14075 on Advancing Equality for Lesbian, Gay, Bisexual, Transgender, Queer, and Intersex Individuals, and Executive Order 13988 on Preventing and Combating Discrimination on the Basis of Gender Identity and Sexual Orientation. Understanding these disparities can and should lead to improved service delivery for ACL's programs and populations served.

The proposed data collection tools may be found on the ACL website for review at: https://acl.gov/about-acl/public-input.

Estimated Program Burden

ACL estimates the burden of this collection of information as follows:

Respondent/data collection activity | Number of respondents | Responses per respondent | Hours per response | Annual burden hours
Program leaders (Program Information Cover Sheet, Attendance Log) | 436 leaders | Twice a year (one set per program) | .50 | 436
Data entry staff (Program Information Cover Sheet, Attendance Log, Participant Information Survey, Participant Post Program Survey) | 40 data entry staff | Once per program × 872 programs | .50 | 436
Program participants (Participant Information Survey) | 10,455 | 1 | .10 | 1,046
Program participants (Participant Post Program Survey) | 6,273 | 1 | .10 | 628
Total Burden Hours |  |  |  | 2,546

Dated: December 8, 2023.
Alison Barkoff,
Principal Deputy Administrator for the Administration for Community Living, performing the delegable duties of the Administrator and the Assistant Secretary for Aging.

[FR Doc. 2023-27451 Filed 12-13-23; 8:45 am]

BILLING CODE 4154-01-P